ENVIRONMENTAL PROTECTION AGENCY

[ER-FRL-6676-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.An explanation of the ratings assigned to draft environmental impact statements(EISs) was published in FR dated April 7, 2006 (71 FR 17845).

Draft EISs

EIS No. 20050549, ERP No. D-BLM-K65296-AZ, Aqua Fria National Monument and Bradshaw-Harquahala, Proposed Resource Management Plan, Implementation, Yavapai County, AZ.

Summary: EPA expressed environmental concerns about impacts to riparian resources and air quality, and recommended additional protections for these resources be included in the Final EIS. Rating EC2.

EIS No. 20060066, ERP No. D-CGD-G11047-00, Beacon Port Deepwater Port License Application, Construction and Operation, Deepwater Port and Offshore Pipeline, U.S. COE Section 404 and 10 Permits, Gulf of Mexico, San Patricio County, TX.

Summary: EPA expressed environmental objections to the open rack re-gasification system due to adverse environmental impacts to Gulf waters and habitat. EPA believes that these impacts can be corrected by the project modifications or other feasible technology, and requested additional information to evaluate and resolve the outstanding issues. Rating EO2.

EIS No. 20060117, ERP No. D-FHW-G40188-LA, I-49 South Wax Lake Outlet to Berwick Route US-90, Transportation Improvements, Funding and Right-of-Way Acquisition, St. Mary Parish, LA.

Summary: EPA does not object to the proposed project. Rating LO.

EIS No. 20060119, ERP No. D-FHW-D40335-VA, Harrisonburg Southeast Connector Location Study, Transportation Improvements from U.S. Route 11 to U.S. Route 33, Funding and U.S. Army COE Section 404 Permit, City of Harrisonburg, Rockingham County, VA.

Summary: EPA expressed environmental concerns about the proposed project, primarily regarding potential impacts to historic resources and impacts arising from induced growth in the study area. Rating EC2.

EIS No. 20060126, Erp No. Ds-Noa-K91012-00, Bottomfish and Seamount Groundfish Fisheries of the Western Pacific Region, Approval for Measures to End Bottomfish Overfishing in the Hawaii Archipelago, HI, GU and AS.

Summary: EPA expressed environmental concern about uncertainties of project alternatives due to a lack of data, and recommended adaptive management and a more conservative mortality reduction target be established. Rating EC2.

Final EISs

EIS No. 20060099, ERP No. F-AFS-J65428-CO, Vail Valley Forest Health Project, Landscape-Scale Vegetation Management and Fuels Reduction, White River National Forest, Holy Cross Ranger District, Eagle County, CO.

Summary: No formal comment letter was sent to the preparing agency.

EIS No. 20060128, ERP No. F-FHW-J40167-UT, Brown Park Road Project, Reconstruction (Paving) and Partial Re-Alignment from Red Creek to Colorado State Line, Diamond Mountain Resource Management Plan Amendment (BLM), U.S. Army COE Section 404 Permit, Daggett County, UT.

Summary: EPA does not object to the proposed project.

EIS No. 20060153, ERP No. F-FHW-D40317-VA, Capital Beltway Study, Transportation Improvement to the 14-Mile Section of Capital Beltway (I-495) between the I-95/I-395/I-495 Interchange and the American Legion Bridge, Fairfax County, VA.

Summary: EPA continues to have environmental concern about the proposed project, particularly regarding potential noise issues as well as the lack of public involvement in the implementation of a High Occupancy Toll (HOT) lane concept.

EIS No. 20060159, ERP No. F-NPS-L61229-AK, Denali National Park and Preserve, Draft South Denali Implementation Plan, Matanuska-Susitna Borough, AK.

Summary: EPA does not object to the proposed project.

EIS No. 20060190, ERP No. F-AFS-F65054-MI, Ottawa National Forest, Proposed Land and Resource Management Plan, Forest Plan Revision, Implementation, Baraga, Gogebic, Houghton, Iron, Marquette and Ontonagan Counties, MI.

Summary: EPA's previous issues have been resolved; therefore, EPA does not object to the proposed action.

Dated: June 13, 2006.
Robert W. Hargrove,
Director, NEPA Compliance Division,Office of Federal Activities.

[FR Doc. E6-9459 Filed 6-15-06; 8:45 am]

BILLING CODE 6560-50-P